DEPARTMENT OF COMMERCE

International Trade Administration

Initiation of Antidumping and Countervailing Duty Administrative Reviews and Request for Revocation in Part

AGENCY: Import Administration, International Trade Administration, Department of Commerce.

SUMMARY: The Department of Commerce (“the Department”) has received requests to conduct administrative reviews of various antidumping and countervailing duty orders and findings with December anniversary dates. In accordance with the Department's regulations, we are initiating those administrative reviews.

DATES: Effective Date: January 30, 2013.

FOR FURTHER INFORMATION CONTACT: Brenda E. Waters, Office of AD/CVD Operations, Customs Unit, Import Administration, International Trade Administration, U.S. Department of Commerce, 14th Street and Constitution Avenue NW., Washington, DC 20230, telephone: (202) 482-4735.

SUPPLEMENTARY INFORMATION:

Background

The Department has received timely requests, in accordance with 19 CFR 351.213(b), for administrative reviews of various antidumping and countervailing duty orders and findings with December anniversary dates.

All deadlines for the submission of various types of information, certifications, or comments or actions by the Department discussed below refer to the number of calendar day from the applicable starting time.

Notice of No Sales

If a producer or exporter named in this notice of initiation had no exports, sales, or entries during the period of review (“POR”), it must notify the Department within 60 days of publication of this notice in the Federal Register. All submissions must be filed electronically at http://iaaccess.trade.gov in accordance with 19 CFR 351.303. See Antidumping and Countervailing Duty Proceedings: Electronic Filing Procedures; Administrative Protective Order Procedures, 76 FR 39263 (July 6, 2011). Such submissions are subject to verification in accordance with section 782(i) of the Tariff Act of 1930, as amended (“Act”). Further, in accordance with 19 CFR 351.303(f)(3)(ii), a copy of each request must be served on the petitioner and each exporter or producer specified in the request.

Respondent Selection

In the event the Department limits the number of respondents for individual examination for administrative reviews, the Department intends to select respondents based on U.S. Customs and Border Protection (“CBP”) data for U.S. imports during the POR. We intend to release the CBP data under Administrative Protective Order (“APO”) to all parties having an APO within seven days of publication of this initiation notice and to make our decision regarding respondent selection within 21 days of publication of this Federal Register notice. The Department invites comments regarding the CBP data and respondent selection within five days of placement of the CBP data on the record of the applicable review.

In the event the Department decides it is necessary to limit individual examination of respondents and conduct respondent selection under section 777A(c)(2) of the Act:

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, new shipper review or changed circumstances review). For any company subject to this review, if the Department determined, or continued to treat, that company as collapsed with others, the Department will assume that such companies continue to operate in the same manner and will collapse them for respondent selection purposes. Otherwise, the Department will not collapse companies for purposes of respondent selection. Parties are requested to (a) identify which companies subject to review previously were collapsed, and (b) provide a citation to the proceeding in which they were collapsed. Further, if companies are requested to complete the Quantity and Value Questionnaire for purposes of respondent selection, in general each company must report volume and value data separately for itself. Parties should not include data for any other party, even if they believe they should be treated as a single entity with that other party. If a company was collapsed with another company or companies in the most recently completed segment of this proceeding where the Department considered collapsing that entity, complete quantity and value data for that collapsed entity must be submitted.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that the Department does not intend to extend the 90-day deadline unless the requestor demonstrates that an extraordinary circumstance has prevented it from submitting a timely withdrawal request. Determinations by the Department to extend the 90-day deadline will be made on a case-by-case basis.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2, 1994). In accordance with the separate rates criteria, the Department assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, the Department requires entities for whom a review was requested, that were assigned a separate rate in the most recent segment of this proceeding in which they participated, to certify that they continue to meet the criteria for obtaining a separate rate. The Separate Rate Certification form will be available on the Department's Web site at http://www.trade.gov/ia on the date of publication of this Federal Register notice. In responding to the certification, please follow the “Instructions for Filing the Certification” in the Separate Rate Certification. Separate Rate Certifications are due to the Department no later than 60 calendar days after publication of this Federal Register notice. The deadline and requirement for submitting a Certification applies equally to NME-owned firms, wholly foreign-owned firms, and foreign sellers who purchase and export subject merchandise to the United States.

Entities that currently do not have a separate rate from a completed segment of the proceeding ¹ should timely file a Separate Rate Application to demonstrate eligibility for a separate rate in this proceeding. In addition, companies that received a separate rate in a completed segment of the proceeding that have subsequently made changes, including, but not limited to, changes to corporate structure, acquisitions of new companies or facilities, or changes to their official company name,² should timely file a Separate Rate Application to demonstrate eligibility for a separate rate in this proceeding. The Separate Rate Status Application will be available on the Department's Web site at http://www.trade.gov/ia on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

¹ Such entities include entities that have not participated in the proceeding, entities that were preliminarily granted a separate rate in any currently incomplete segment of the proceeding (e.g., an ongoing administrative review, new shipper review, etc.) and entities that lost their separate rate in the most recently complete segment of the proceeding in which they participated.

² Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews

In accordance with 19 CFR 351.221(c)(1)(i), we are initiating administrative reviews of the following antidumping and countervailing duty orders and findings. We intend to issue the final results of these reviews not later than December 31, 2013.

| Period to be reviewed
Antidumping Duty Proceedings
India: Certain Hot-Rolled Carbon Steel Flat Products, A-533-820 | 12/1/11-11/30/12
Essar Steel Limited
JSW Ispat Steel Limited (formerly Ispat Industries Limited)
JSW Steel Limted
National Steel and Agro Industries Limited
Steel Authority of India Limited
Tata Steel Limited
Welspun Corp Ltd (also referred to as Welspun Steel Ltd.)
Uttam Galva Steels Limited
The People's Republic of China: Certain Cased Pencils ³ A-570-849 | 12/1/11-11/30/12
Beijing Fila Dixon Stationery Company, Ltd. a/k/a Beijing Dixon Ticonderoga Stationery Company, Ltd. a/k/a Beijing Dixon Stationery Company, Ltd. and Dixon Ticonderoga Company (collectively,”Dixon”)
Orient International Holding Shanghai Foreign Trade Co., Ltd. (“SFTC”)
The People's Republic of China: Hand Trucks and Parts Thereof ⁴ A-570-891 | 12/1/11-11/30/12
New-Tec Integration (Xiamen) Co., Ltd.
Yangjiang Shunhe Industrial Co.
The People's Republic of China: Honey ⁵ A-570-863 | 12/1/11-11/30/12
Ahcof Industrial Development Corp., Ltd.
Alfred L. Wolff (Beijing) Co., Ltd.
Anhui Changhao Import & Export Trading
Anhui Honghui Foodstuff (Group) Co., Ltd.
Anhui Honghui Import & Export Trade Co., Ltd.
Anhui Cereals Oils and Foodstuffs I/E (Group) Corporation
Anhui Hundred Health Foods Co., Ltd.
Anhui Native Produce Imp & Exp Corp.
Anhui Time Tech Co., Ltd.
APM Global Logistics (Shanghai) Co.
Baiste Trading Co., Ltd.
Cheng Du Wai Yuan Bee Products Co., Ltd.
Chengdu Stone Dynasty Art Stone
Damco China Limited Qingdao Branch
Dongtai Peak Honey Industry Co., Ltd.
Eurasia Bee's Products Co., Ltd.
Feidong Foreign Trade Co., Ltd.
Fresh Honey Co., Ltd. (formerly Mgl. Yun Shen)
Golden Tadco Int'l
Hangzhou Golden Harvest Health Industry Co., Ltd.
Hangzhou Tienchu Miyuan Health Food Co., Ltd.
Haoliluck Co., Ltd.
Hengjide Healthy Products Co. Ltd.
Hubei Yusun Co., Ltd.
Inner Mongolia Altin Bee-Keeping
Inner Mongolia Youth Trade Development Co., Ltd.
Jiangsu Cereals, Oils Foodstuffs Import Export (Group) Corp.
Jiangsu Kanghong Natural Healthfoods Co., Ltd.
Jiangsu Light Industry Products Imp & Exp (Group) Corp.
Jilin Province Juhui Import
Maersk Logistics (China) Company Ltd.
Nefelon Limited Company
Ningbo Shengye Electric Appliance
Ningbo Shunkang Health Food Co., Ltd.
Ningxia Yuehai Trading Co., Ltd.
Product Source Marketing Ltd.
Qingdao Aolan Trade Co., Ltd.
QHD Sanhai Honey Co., Ltd.
Qinhuangdao Municipal Dafeng Industrial Co., Ltd.
Renaissance India Mannite
Shaanxi Youthsun Co., Ltd.
Shanghai Bloom International Trading Co., Ltd.
Shanghai Foreign Trade Co., Ltd.
Shanghai Hui Ai Mal Tose Co., Ltd.
Shanghai Luyuan Import & Export
Shanghai Taiside Trading Co., Ltd.
Shine Bal Co., Ltd.
Sichuan-Dujiangyan Dubao Bee Industrial Co., Ltd.
Sichuan Hasten Imp Exp. Trading Co., Ltd.
Silverstream International Co., Ltd.
Sunnice Honey
Suzhou Aiyi IE Trading Co., Ltd.
Suzhou Shanding Honey Product Co. Ltd.
Tianjin Eulia Honey Co., Ltd.
Tianjin Weigeda Trading Co., Ltd.
Wanxi Haohua Food Co., Ltd.
Wuhan Bee Healthy Co., Ltd.
Wuhan Shino-Food Trade Co., Ltd.
Wuhu Anjie Food Co., Ltd.
Wuhu Deli Foods Co. Ltd.
Wuhu Fenglian Co., Ltd.
Wuhu Haoyikuai Food Products Co., Ltd.
Wuhu Haoyikuai I & E Co.
Wuhu Haoyikuai Import & Export Co., Ltd.
Wuhu Qinshi Tangye
Wuhu Qinshi Tangye Co., Ltd.
Wuhu Xinrui Bee-Product Co., Ltd.
Xinjiang Jinhui Food Co., Ltd.
Youngster International Trading Co., Ltd.
Zhejiang Willing Foreign Trading Co.
The People's Republic of China: Multilayered Wood Flooring ⁶ A-570-970 | 5/26/11-11/30/12
A&W (Shanghai) Woods Co., Ltd.
Armstrong Wood Products Kunshan Co. Ltd.
Anhui Longhua Bamboo Product Co., Ltd.
Baishan Huafeng Wood Product Co., Ltd.
Baiying Furniture Manufacturer Co., Ltd.
Baroque Timber Industries (Zhongshan) Co., Ltd; Riverside Plywood Corporation; Samling Elegant Living Trading (Labuan) Limited; Samling Global USA, Inc.; Samling Riverside Co., Ltd. (collectively the “Samling Group”)
Benxi Wood Company
Changbai Mountain Development and Protection Zone Hongtu Wood Industry Co., Ltd.
Changzhou Hawd Flooring Co., Ltd.
Chinafloors Timber (China) Co., Ltd.
Dalian Dajen Wood Co., Ltd.
Dalian Huilong Wooden Products Co., Ltd.
Dalian Jiuyuan Wood Industry Co., Ltd.
Dalian Kemian Wood Industry Co., Ltd.
Dalian Penghong Floor Products Co., Ltd.
Dasso Industrial Group Co., Ltd.
Dazhuang Floor Co. (dba Dasso Industrial Group Co., Ltd.)
Dontai Fuan Universal Dynamics, LLC
Dunhua City Hongyuan Wood Industry Co., Ltd.
Dunhua City Jisen Wood Industry Co., Ltd.
Dunhua City Wanrong Wood Industry Co., Ltd.
Dunhua Dexin Wood Industry Co., Ltd.
Dunhua Jisheng Wood Industry Co., Ltd.
Dun Hua Sen Tai Wood Co., Ltd
Fine Furniture (Shanghai) Limited
Fu Lik Timber (HK) Co., Ltd.
Fujian Wuyishan Werner Green Industry Co., Ltd.
Fusong Jinlong Wooden Group Co., Ltd
Fusong Qianqiu Wooden Group Co., Ltd.
Fusong Qianqiu Wooden Products Co., Ltd.
Furnco International (HK) Company Limited
GTP International
Guangdong Fu Lin Timber Technology Limited
Guangdong Yihua Timber Industry Co., Ltd.
Guangdong Jiasheng Timber Industry Co., Ltd.
Guangzhou Panyu Kangda Board Co., Ltd.
Guanghzhou Panyu Shatou Trading Co., Ltd/Puli Trading Co., Ltd./Guangzhou Panyu Southern Star Co., Ltd; and related companies Yixing Lion-King Timber Industry Co., Ltd. and Jiangsu Simba Flooring Co., Ltd
HaiLin LinJing Wooden Products, Ltd.
Hangzhou Hanje Tec Co., Ltd
Hunchun Forest Wolf Wooden Industry Co., Ltd.
Huzhou Chenghang Wood Co., Ltd
Huzhou Fuma Wood Bus. Co., Ltd.
Huzhou Fulinmen Imp & Emp. Co., Ltd.
Huzhou Jensonwood Co., Ltd.
Huzhou Sunergy World Trade Co., Ltd.
Jianfeng Wood (Suzhou) Co., Ltd.
Jiangsu Senmao Bamboo and Wood Industry Co., Ltd.
Jiangsu Simba Flooring Co., Ltd.
Jiashan FengYun Timber Company Ltd.
Jiashan Hui Jia Le Decoration Material Co., Ltd.
Jiaxing Brilliant Import & Export Co., Ltd.
Jiaxing Hengtong Wood Co., Ltd.
Jiazing Brilliant Import & Export Co., Ltd.
Jilin Forest Industry Jinqiao Flooring Group Co., Ltd.
Jilin Xinyuan Wooden Industry Co., Ltd.
Karly Wood Product Limited
Kemian Wood Industry (Kunshan) Co., Ltd.
Kunming Alston (AST) Wood Products Co., Ltd.
Kushan Yingyi-Nature Wood Industry Co., Ltd.
Metropolitan Hardwood Floors, Inc.
MuDanJiang Bosen Wood Industry Co., Ltd.
Nanjing Minglin Wooden Industry Co., Ltd.
Pinge Timber Manufacturing (Zhejiang) Co., Ltd
Polywell Global Limited
Power Dekor Group Co., Ltd.
Puli Trading Limited
Scholar Home (Shanghai) New Material Co.Ltd.
Sennorwell International Group (Hong Kong) Limited
Shanghai Demeijia Wooden Co., Ltd.
Shanghai Eswell Timber Co., Ltd.
Shanghai Lairunde Wood Co., Ltd.
Shanghai Lizhong Wood Products Co., Ltd./The Lizhong Wood Industry Limited Company of Shanghai
Shanghai New Sihi Wood Co., Ltd.
Shanghai Shenlin Corp.
Shenyang Haobainian Wood Co.
Shenyang Sende Wood Co., Ltd.
Shenyang Senwang Wooden Industry Co., Ltd.
Shenzhenshi Huanwei Woods Co., Ltd.
Suzhou Anxin Weiguang Timber Co., Ltd.
Suzhou Dongda Wood Co., Ltd.
Vicwood Industry (Suzhou) Co., Ltd.
Xiamen Yung De Ornament Co., Ltd.
Xinyuan Wooden Industry Co., Ltd.
Xuzhou Shenghe Wood Co., Ltd.
Yekalon Industry, Inc.
Zhejiang AnJi XinFeng Bamboo & Wood Co., Ltd.
Zhejiang Biyork Wood Co., Ltd.
Zhejiang Dadongwu Greenhome Wood Co., Ltd.
Zhejiang Desheng Wood Industry Co., Ltd.
Zhejiang Fudeli Timber Industry Co., Ltd
Zhejiang Fuma Warm Technology, Co., Ltd.
Zhejiang Haoyun Wood Co., Ltd.
Zhejiang Jeson Wood Co., Ltd.
Zhejiang Jiechen Wood Industry Co., Ltd.
Zhejiang Layo Wood Industry Co., Ltd.
Zhejiang Longsen Lumbering Co., Ltd.
Zhejiang Shiyou Timber Co., Ltd.
Zhejiang Tianzhen Bamboo & Wood Development Co., Ltd.
Zhejiang Yongyu Bamboo Joint-Stock Co., Ltd.
Countervailing Duty Proceedings
India: Certain Hot-Rolled Carbon Steel Flat Products C-533-821 | 1/1/12-12/31/12
JSW Ispat Steel Limited (formerly Ispat Industries Limited)
National Steel and Agro Industries Limited
Steel Authority of India Limited
Tata Steel Limited
Welspun Corp Ltd (also referred to as Welspun Steel Ltd.)
Uttam Galva Steels Limited
The People's Republic of China: Multilayered Wood Flooring C-570-971 | 4/6/11-12/31/11
A&W (Shanghai) Woods Co., Ltd.
Armstrong Wood Products Kunshan Co., Ltd.
Armstrong Wood Products (Kunshan) Co., Ltd.
Baishan Huafeng Wood Product Co., Ltd.
Baiying Furniture Manufacturer Co., Ltd.
Baroque Timber Industries (Zhongshan) Co., Ltd; Riverside Plywood Corporation; Sampling Elegant Living Trading (Labuan) Limited; Samling Global USA, Inc.; Samling Riverside Co., Ltd. (collectively the “Sampling Group”)
Changbai Mountain Development and Protection Zone Hongtu Wood Industry Co., Ltd.
Changzhou Hawd Flooring Co., Ltd.
Chinafloors Timber (China) Co., Ltd.
Dalian Dajen Wood Co., Ltd.
Dalian Huilong Wooden Products Co., Ltd.
Dalian Jiuyuan Wood Industry Co., Ltd.
Dalian Kemian Wood Industry Co., Ltd.
Dalian Penghong Floor Products Co., Ltd.
Dazhuang Floor Co. (dba Dasso Industrial Group Co., Ltd.)
Dontai Fuan Universal Dynamics LLC
Dunhua City Hongyuan Wood Industry Co., Ltd.
Dunhua City Wanrong Wood Industry Co., Ltd.
Dunhua Dexin Wood Industry Co., Ltd.
Dunhua Jisheng Wood Industry Co., Ltd.
Dun Hua City Jisen Wood Industry Co., Ltd.
Dun Hua Sen Tai Wood Co., Ltd.,
Fine Furniture (Shanghai) Limited
Fu Lik Timber (HK) Co., Ltd.
Fusong Jinlong Wooden Group Co., Ltd.
Fusong Qianqiu Wooden Group Co., Ltd.
Fusong Qianqiu Wooden Product Co., Ltd.
GTP International
Guangdong Fu Lin Timber Technology Limited
Guangdong Yihua Timber Industry Co., Ltd.
Guangzhou Jiasheng Timber Industry Co., Ltd.
Guangzhou Panyu Kangda Board Co., Ltd.
Guanghzhou Panyu Shatou Trading Co. Ltd./Puli Trading Co., Ltd., and Guangzhou Panyu Southern Star Co., Ltd., and the related companies Yixing Lion-King Timber Industry Co., Ltd. and Jiangsu Simba Flooring Co., Ltd
HaiLin LinJing Wooden Products, Ltd.
Hunchun Forest Wolf Industry Co., Ltd.
Huzhou Chenghang Wood Co., Ltd.
Huzhou Fuma Wood Bus. Co., Ltd.
Huzhou Fulinmen Imp. & Exp. Co., Ltd.
Huzhou Jesonwood Co., Ltd.
Huzhou Sunergy World Trade Co., Ltd.
Jianfeng Wood (Suzhou) Co., Ltd.
Jiangsu Senmao Bamboo, Wood Industry Co., Ltd.
Jiazing Brilliant Import & Export Co., Ltd.
Jilin Forest Industry Jinqiao Flooring Group Co., Ltd.
Jilin Xinyuan Wooden Industry Co., Ltd.
Karly Wood Product Limited
Kemian Wood Industry (Kunshan) Co., Ltd.
Kunming Alston (AST) Wood Products Co., Ltd.
Kushan Yingyi-Nature Wood Industry Co., Ltd.
Metropolitan Hardwood Floors, Inc.
MuDanJiang Bosen Wood Industry Co., Ltd.
Nakahiro Jyou Sei Furniture (Dalian) Co., Ltd.
Nanjing Minglin Wooden Industry Co., Ltd.
Power Dekor Group Co., Ltd.
Sennorwell International Group (Hong Kong) Limited
Shanghai Demeijia Wooden Co., Ltd.
Shanghai Eswell Timber Co., Ltd.
Shanghai Lairunde Wood Co., Ltd.
Shanghai Lizhong Wood Products Co., Ltd. (a/k/a The Lizhong Wood Industry Limited Company of Shanghai)
Shanghai New Sihi Wood Co., Ltd.
Shanghai Shenlin Corp.
Shenyang Haobainian Wood Co.
Shenyang Sende Wood Co., Ltd.
Shenzhenshi Huanwei Woods Co., Ltd.
Suzhou Anxin Weiguang Timber Co., Ltd.
Suzhou Dongda Wood Co., Ltd.
Suzhou Times Flooring Co., Ltd.
Vicwood Industry (Suzhou) Co. Ltd.
Xiamen Yung De Ornament Co., Ltd.
Xinyuan Wooden Industry Co., Ltd.
Xuzhou Shenghe Wood Co., Ltd.
Yekalon Industry, Inc.
Zhejiang AnJi XinFeng Bamboo & Wood Co., Ltd.
Zhejiang Biyork Wood Co., Ltd.
Zhejiang Dadongwu GreenHome Wood Co., Ltd.
Zhejiang Desheng Wood Industry Co., Ltd.
Zhejiang Fudeli Timber Indutry Co., Ltd.
Zhejiang Haoyun Wood Co., Ltd.
Zhejiang Jeson Wood Co., Ltd.
Zhejiang Jiechen Wood Industry Co., Ltd.
Zhejiang Longsen Lumbering Co., Ltd.
Zhejiang Shiyou Timber Co., Ltd.
Zhejiang Tianzhen Bamboo & Wood Development Co., Ltd.
Suspension Agreements
None

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed Cir. 2002), as appropriate, whether antidumping duties have been absorbed by an exporter or producer subject to the review if the subject merchandise is sold in the United States through an importer that is affiliated with such exporter or producer. The request must include the name(s) of the exporter or producer for which the inquiry is requested.

³ If one of the above named companies does not qualify for a separate rate, all other exporters of Certain Cased Pencils from the PRC who have not qualified for a separate rate are deemed to be covered by this review as part of the single PRC entity of which the named exporters are a part.

⁴ If one of the above named companies does not qualify for a separate rate, all other exporters of Hand Trucks and Parts Thereof from the PRC who have not qualified for a separate rate are deemed to be covered by this review as part of the single PRC entity of which the named exporters are a part.

⁵ If one of the above named companies does not qualify for a separate rate, all other exporters of Honey and Parts Thereof from the PRC who have not qualified for a separate rate are deemed to be covered by this review as part of the single PRC entity of which the named exporters are a part.

⁶ If one of the above named companies does not qualify for a separate rate, all other exporters of Multilayered Wood Flooring from the PRC who have not qualified for a separate rate are deemed to be covered by this review as part of the single PRC entity of which the named exporters are a part.

For the first administrative review of any order, there will be no assessment of antidumping or countervailing duties on entries of subject merchandise entered, or withdrawn from warehouse, for consumption during the relevant provisional-measures “gap” period, of the order, if such a gap period is applicable to the period of review.

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that they meet the requirements of these procedures (e.g., the filing of separate letters of appearance as discussed at 19 CFR 351.103(d)).

Any party submitting factual information in an antidumping duty or countervailing duty proceeding must certify to the accuracy and completeness of that information. See section 782(b) of the Act. Parties are hereby reminded that revised certification requirements are in effect for company/government officials as well as their representatives in all segments of any antidumping duty or countervailing duty proceedings initiated on or after March 14, 2011. See Certification of Factual Information to Import Administration During Antidumping and Countervailing Duty Proceedings: Interim Final Rule, 76 FR 7491 (February 10, 2011) (“Interim Final Rule”), amending 19 CFR 351.303(g)(1) and (2). The formats for the revised certifications are provided at the end of the Interim Final Rule. The Department intends to reject factual submissions in any proceeding segments initiated on or after March 14, 2011 if the submitting party does not comply with the revised certification requirements.

These initiations and this notice are in accordance with section 751(a) of the Act (19 U.S.C. 1675(a)) and 19 CFR 351.221(c)(1)(i).

Dated: January 23, 2013.
Christian Marsh,
Deputy Assistant Secretary for Antidumping and Countervailing Duty Operations.

[FR Doc. 2013-01999 Filed 1-29-13; 8:45 am]

BILLING CODE 3510-DS-P